DEPARTMENT OF AGRICULTURE

Agricultural Marketing Service

[Doc. No. AMS-NOP-12-0020; NOP-12-08]

Nominations for Members of the National Organic Standards Board

AGENCY: Agricultural Marketing Service, USDA.

ACTION: Notice.

SUMMARY: The Organic Foods Production Act (OFPA) of 1990, as amended, requires the establishment of a National Organic Standards Board (NOSB). The NOSB is a 15-member board that is responsible for developing and recommending to the Secretary a proposed National List of Allowed and Prohibited Substances and advises the Secretary on other aspects of the National Organic Program. The U.S. Department of Agriculture (USDA) is requesting nominations to fill one (1) upcoming vacancy on the NOSB. The position to be filled is environmentalist. The Secretary of Agriculture will appoint a person to the position to serve a 5-year term of office that will commence on January 24, 2013, and run until January 24, 2018.

DATES: Written nominations, with cover letters and resumes, must be postmarked on or before date July 30, 2012.

ADDRESSES: Nomination cover letters and resumes should be sent to Michelle Arsenault, Advisory Board Specialist, USDA-AMS-NOP, 1400 Independence Avenue SW., Room 2640-So., Ag Stop 0268, Washington, DC 20250, or via email to Michelle.Arsenault@ams.usda.gov.

FOR FURTHER INFORMATION CONTACT: Michelle Arsenault, (202) 720-0081; Email

Michelle.Arsenault@ams.usda.gov; Fax: (202) 205-7808 or Patricia Atkins, (202) 260-8636; Email: Patricia.Atkins@ams.usda.gov.

SUPPLEMENTARY INFORMATION: The OFPA of 1990, as amended (7 U.S.C. Section 6501 et seq.), requires the Secretary to establish an organic certification program for producers and handlers of agricultural products that have been produced using organic methods. In developing this program, the Secretary is required to establish an NOSB. The purpose of the NOSB is to assist in the development of a proposed National List of Allowed and Prohibited Substances and to advise the Secretary on other aspects of the National Organic Program.

The NOSB is composed of 15 members; including 4 organic producers, 2 organic handlers, a retailer, 3 environmentalists, 3 public/consumer representatives, a scientist, and a certifying agent. Nominations are being sought to fill the position of environmentalist. Individuals desiring to be appointed to the NOSB at this time must have expertise in areas of environmental protection and resource conservation. Selection criteria includes such factors as: Understanding of organic principles and practical experience in the organic community; demonstrated experience in the development of public policy such as participation on public or private advisory boards, boards of directors or other comparable organizations; participation in standards development or involvement in educational outreach activities; a commitment to the integrity of the organic food and fiber industry; the ability to evaluate technical information and to fully participate in Board deliberation and recommendations; and the willingness to commit the time and energy necessary to assume Board duties; demonstrated experience and interest in organic production; organic certification; support of consumer and public interest organizations; demonstrated experience with respect to agricultural products produced and handled on certified organic farms; and such other factors as may be appropriate for specific positions.

To nominate yourself or someone else, please submit: A resume, a cover letter, and a Form AD-755, which can be accessed at: www.ocio.usda.gov/forms/doc/AD-755.pdf. Resumes must be no longer than 5 pages, and include at the beginning a summary of the following information: Current and past organization affiliations; areas of expertise; education; career positions held; any other notable positions held. You may also submit a list of endorsements or letters of recommendation, if desired. Resumes and completed requested background information is required for a nominee to receive consideration for appointment by the Secretary.

Equal opportunity practices will be followed in all appointments to the NOSB in accordance with USDA policies. To ensure that the members of the NOSB take into account the needs of the diverse groups that are served by the Department, membership on the NOSB will include, to the extent practicable, individuals who demonstrate the ability to represent all racial and ethnic groups, women and men, and persons with disabilities.

The information collection requirements concerning the nomination process have been previously cleared by the Office of Management and Budget (OMB) under OMB Control No. 0505-0001.

Dated: June 18, 2012.
Ruihong Guo,
Acting Administrator, Agricultural Marketing Service.

[FR Doc. 2012-15204 Filed 6-20-12; 8:45 am]

BILLING CODE 3410-02-P